FEDERAL COMMUNICATIONS COMMISSION

[FR ID 224106]

Open Commission Meeting Thursday, June 6, 2024

May 30, 2024.

The Federal Communications Commission will hold an Open Meeting on the subjects listed below on Thursday, June 6, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Public Safety and Homeland Security | Title: Reporting on Border Gateway Protocol Risk Mitigation Progress (PS Docket No. 24-146); Secure Internet Routing (PS Docket No. 22-90)
|  | Summary: The Commission will consider a Notice of Proposed Rulemaking to increase the security of the information routed across the internet and promote national security by requiring broadband providers to report on their progress in addressing vulnerabilities in the Border Gateway Protocol.
2 | Wireline Competition | Title: Establishing a Schools and Libraries Cybersecurity Pilot Program (WC Docket No. 23-234)
|  | Summary: The Commission will consider a Report and Order that would establish the Schools and Libraries Cybersecurity Pilot Program and provide up to $200 million in Universal Service Fund (USF) support available to eligible schools and libraries, over a three-year period, to defray the costs of eligible cybersecurity services and equipment and help the Commission evaluate the use of the USF to support these services and equipment.
3 | Wireline Competition | Title: Letters of Credit for Recipients of High-Cost Competitive Bidding Support (WC Docket No. 24-144); Connect America Fund (WC Docket No. 10-90); The Uniendo a Puerto Rico Fund and the Connect USVI Fund (WC Docket No. 18-143); Rural Digital Opportunity Fund (WC Docket No. 19-126); Connect America Fund Phase II Auction (AU Docket No. 17-182); Rural Digital Opportunity Fund Auction (AU Docket No. 20-34); Establishing a 5G Fund for Rural America (GN Docket No. 20-32)
|  | Summary: The Commission will consider a Notice of Proposed Rulemaking that would seek comment on changes to the rules for letters of credit required for recipients of high-cost support authorized through a competitive process.
4 | Media | Title: Amendment of the Commission's Rules to Advance the Low Power Television, TV Translator and Class A Television Service (MB Docket No. 24-148); Political Programming and Online Public File Requirements for Low Power Television Stations (MB Docket No. 24-147)
|  | Summary: The Commission will consider a Notice of Proposed Rulemaking regarding updates and amendments to the Commission's rules to address advances in the LPTV Service.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2024-12600 Filed 6-7-24; 8:45 am]

BILLING CODE 6712-01-P